INTERNATIONAL TRADE COMMISSION

[USITC SE-18-056]

Sunshine Act Meetings

AGENCY HOLDING THE MEETING: United States International Trade Commission.

TIME AND DATE: December 6, 2018 at 9:30 a.m.

PLACE: Room 101, 500 E Street SW, Washington, DC 20436, Telephone: (202) 205-2000.

STATUS: Open to the public.

MATTERS TO BE CONSIDERED:

1. Agendas for future meetings: None.

2. Minutes.

3. Ratification List.

4. Vote on Inv. Nos. 701-TA-593-596 and 731-TA-1401-1406 (Final) (Large Diameter Welded Pipe from Canada, China, Greece, India, Korea, and Turkey). The Commission is currently scheduled to complete and file its determinations and views of the Commission by December 20, 2018.

5. Outstanding action jackets: None.

In accordance with Commission policy, subject matter listed above, not disposed of at the scheduled meeting, may be carried over to the agenda of the following meeting.

By order of the Commission.
Issued: November 26, 2018.
William Bishop,
Supervisory Hearings and Information Officer.

[FR Doc. 2018-26025 Filed 11-27-18; 11:15 am]

BILLING CODE 7020-02-P